LEGAL SERVICES CORPORATION

Sunshine Act Meetings

TIME AND DATE: The Legal Services Corporation (LSC) Board of Directors and its Finance, Audit, and Delivery of Legal Services committees will hold their 2025 quarterly business meeting January 26-28, 2025. On Monday, January 27, the first meeting will begin at 9:00 a.m. ET, with the next meeting commencing at 1:15 p.m. ET. On Tuesday, January 28, the first meeting will begin at 8:30 a.m. ET, with the next meeting commencing promptly upon adjournment of the immediately preceding meeting.

PLACE: Public Notice of Hybrid Meeting.

LSC will conduct its January 26-28, 2025, meetings at the Embassy Suites by Hilton Tampa Downtown Convention Center, 513 South Florida Avenue, Tampa, FL 33602, and virtually via Zoom.

Public Observation: Unless otherwise noted herein, the Board and all committee meetings will be open to public observation. Members of the public who wish to participate virtually in the public proceedings may do so by following the directions provided below.

Directions for Open Sessions

Monday, January 27, 2025

• To join the Zoom meeting by computer, please use this link:

○ https://lsc-gov.zoom.us/j/81565383451?pwd=1llll33RnbUjvY8CjwW0FB9bORs8UM.1.

○ Meeting ID: 815 6538 3451.

○ Passcode: 153274.

Tuesday, January 28, 2025

• To join the Zoom meeting by computer, please use this link:

○ https://lsc-gov.zoom.us/j/85769137645?pwd=MLcrUbgNKPZ4obAcIbRt5QU7qM5Xr3.1.

○ Meeting ID: 857 6913 7645.

○ Passcode: 444480.

○ If calling from outside the U.S., find your local number here: https://lsc-gov.zoom.us/u/acCVpRj1FD.

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Parts of this meeting will be open to the public. The rest of the meeting will be closed to the public.

Finance Committee—Open, except that, upon a vote of the Board of Directors, the meeting may be closed to the public for the review of banking services.

Audit Committee—Open, except that, upon a vote of the Board of Directors, the meeting may be closed to the public to receive a briefing by the Office of Compliance and Enforcement on active enforcement matter(s); follow up on open investigation referrals to and from the Office of Inspector General (ACC § VIII A (5)); and receive briefings by LSC Management regarding significant grantee oversight activities.

Delivery of Legal Services Committee—Open, except that, upon a vote of the Board of Directors, the meeting may be closed to the public to receive a briefing on service area configuration.

Board of Directors—Open, except that, upon a vote of the Board of Directors, a portion of the meeting may be closed to the public to receive briefings from Management and the Inspector General; to receive the General Counsel's report on outside counsel expenditures; to consider and act on the General Counsel's report on potential and pending litigation involving LSC; and to consider and act on a list of prospective Leaders Council and Emerging Leaders Council members.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed sessions of the Finance, Audit, Delivery of Legal Services, and the Board of Directors meetings. The transcript of any portions of the closed sessions falling within the relevant provisions of the Government in the Sunshine Act, 5 U.S.C. 552b(c)(6), (7), (9) and (10), will not be available for public inspection. A copy of the General Counsel's certification that, in his opinion, the closing is authorized by law will be available upon request.

MATTERS TO BE CONSIDERED:

Meeting Schedule

Monday, January 27, 2025

Start Time 9:00 a.m. ET

Finance Committee

Portions Open to the Public

1. Approval of Agenda

2. Approval of Minutes of the Committee's Open Session Meeting on October 28, 2024

3. Discussion of Finance Committee's Self-Evaluation for 2024 and Goals for 2025

4. Discussion of LSC's Fiscal Year 2025 Appropriation and Additional Supplemental Appropriation Requests

5. Consider and Act on Resolution #2025-XXX: Temporary Operating Budget and Special Circumstance Operating Authority for Fiscal Year 2025

6. Update on Fiscal Year 2026 Budget Request

7. Presentation of LSC's Financial Report for the First Two Months of Fiscal Year 2025 (from Oct. 1-Nov. 30, 2024)

8. Discussion of LSC's Fiscal Year 2026 Appropriations Request

9. Public Comment

10. Consider and Act on Other Business

11. Consider and Act on Motion to Adjourn the Open Session Meeting and Proceed to a Closed Session Meeting

Portions Closed to the Public

12. Review of Banking Services

13. Consider and Act on Motion To Adjourn the Meeting

Monday, January 27, 2025

Start Time 1:15 p.m. ET

Audit Committee

Portions Open to the Public

1. Approval of Agenda

2. Approval of Minutes of the Committee's Open Session Meeting on October 28, 2024

3. Discussion of the Committee's Self-Evaluation for 2024 and Goals for 2025

4. Update on reassessment of the Committee's Charter (Audit Committee Charter § D (2)) and vote to approve revised Charter and submit to Board for approval.

5. Briefing by the Office of Inspector General ((ACC § VIII A (3) and (ACC § VIII A (4)), to include:

a. Update on key activities and accomplishments over the last quarter, and overview of plans and key priorities for the next quarter;

b. Highlights of audit insights, recently completed work, ongoing work, and planned work for the next quarter; and

c. Highlights of investigative insights, recently completed work, ongoing work, and planned oversight work for the next quarter.

6. Review LSC Management's and the Office of Inspector General's Mechanisms for the Submission of Confidential Complaints regarding suspected fraud, theft, corruption, or misuse of funds, or problems involving internal controls, auditing, or accounting, and that there are proper procedures in place for the receipt, retention, and handling of such complaints (ACC § VIII C (5))

7. Management Update Regarding Risk Management (ACC § VIII C (1))

8. Office of Compliance and Enforcement briefing on referrals by the Office of Inspector General regarding Audit reports and annual financial statement audits of grantees ((ACC § VIII A (5))

9. Public Comment

10. Consider and Act on Other Business

11. Consider and Act on Motion to Adjourn the Open Session Meeting and Proceed to a Closed Session Meeting

Portions Closed to the Public

12. Approval of Minutes of the Committee's Closed Session Meeting on October 28, 2024

13. Office of Compliance and Enforcement Briefing on Active Enforcement Matter(s) and Follow-Up on Open Investigation Referrals to and from the Office of Inspector General (ACC § VIII A (5))

14. As Needed Briefing by LSC Management Regarding Significant Grantee Oversight Activities

15. Consider and Act on Adjournment of Meeting

Tuesday, January 28, 2025

Start Time 8:30 a.m. ET

Delivery of Legal Services Committee

Portions Open to the Public

1. Approval of Agenda

2. Approval of Minutes of the Committee's Open Session Meeting on October 7, 2024

3. Discussion of the Committee's Self-Evaluation for 2024 and Goals for 2025

4. LSC Performance Criteria Revisions Update and Timeline

5. Panel Discussion: Legal Aid Services for Florida's Foster Youth

6. Comments from Client Leadership Council

7. Public Comment

8. Consider and Act on Other Business

9. Consider and Act on Motion to Adjourn the Open Session Meeting and Proceed to a Closed Session Meeting

Portions Closed to the Public

10. Briefing on Service Area Configuration

11. Consider and Act on Motion to Adjourn the Meeting

Tuesday, January 28, 2025

Start Time 10:00 a.m. ET

Board of Directors

Portions Open to the Public

1. Pledge of Allegiance

2. Approval of Agenda

3. Approval of Minutes of the Board's Open Session Meetings on October 29, 2024, and November 20, 2024

4. Consider and Act on Nominations for the Chair of the Board of Directors

5. Consider and Act on Nominations for the Vice Chair of the Board of Directors

6. Discussion Results of the Board's Self-Evaluation for 2024 and Goals for 2025

7. Chairman's Report

8. Members' Reports

9. President's Report

10. Inspector General's Report

11. Consider and Act on the Report of the Governance and Performance Review Committee

12. Consider and Act on the Report of the Operations and Regulations Committee

13. Consider and Act on the Report of the Institutional Advancement Committee

14. Consider and Act on the Report of the Finance Committee

15. Consider and Act on the Report of the Audit Committee

16. Consider and Act on the Report of the Delivery of Legal Services Committee

17. Review Committee

18. Public Comment

19. Consider and Act on Other Business

20. Consider and Act on Whether to Authorize a Closed Session of the Board to Address Items Listed Below

Portions Closed to the Public

21. Approval of Minutes of the Board's Closed Session Meeting on October 29, 2024

22. Management Briefing

23. Inspector General's Briefing

24. General Counsel's Report on Outside Counsel Expenditures

25. Consider and Act on Potential and Pending Litigation Involving Legal Services Corporation

26. Consider and Act on List of Prospective Leaders Council and Emerging Leaders Council Invitees

27. Consider and Act on Motion to Adjourn the Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: January 14, 2025.
Stefanie Davis,
Deputy General Counsel,Legal Services Corporation.

[FR Doc. 2025-01348 Filed 1-15-25; 4:15 pm]

BILLING CODE 7050-01-P